DEPARTMENT OF ENERGY

Federal Energy Regulatory Commission

[Docket No. CP05-364-000]

ANR Pipeline Company; Notice of Intent To Prepare an Environmental Assessment for the Proposed Wisconsin 2006 Expansion Project and Request for Comments on Environmental Issues

June 22, 2005.

The staff of the Federal Energy Regulatory Commission (FERC or Commission) will prepare an environmental assessment (EA) that will discuss the environmental impacts of the Wisconsin 2006 Expansion Project involving construction and operation of facilities by ANR Pipeline Company (ANR) in Rock, Outagamie, Marinette, Dane, Marathon, and Columbia Counties, Wisconsin.¹ ANR's project purpose is to create about 168,241 decatherms per day of incremental firm capacity on its pipeline system to accommodate growth in demand from all market segments in Wisconsin. In general these facilities would consist of about 6.86 miles of various diameter pipeline, addition of compression at 2 compressor stations, and minor upgrades at 5 existing meter stations. This EA will be used by the Commission in its decision-making process to determine whether the project is in the public convenience and necessity.

¹ ANR's application was filed with the Commission under section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice ANR provided to landowners. This fact sheet addresses a number of typically asked questions, including the use of eminent domain and how to participate in the Commission's proceedings. It is available for viewing on the FERC Internet Web site (http://www.ferc.gov).

Summary of the Proposed Project

ANR proposes to install a total of 6.86 miles of looping ² pipeline, add a compressor unit at an existing compressor station, construct a new compressor station, and perform minor upgrade work at 5 existing meter stations in Wisconsin. Specifically, the project includes:

² A loop is a segment of pipeline installed adjacent to an existing pipeline and which connects to the existing pipeline at both ends of the loop. The loop allows more gas to be moved through the system.

• Little Chute Loop (Outagamie County)—About 3.08 miles of 16-inch outside diameter (OD) pipeline, looping the existing 6-inch OD pipeline;

• Madison Lateral Loop (Rock County)—About 3.78 miles of 30-inch OD pipeline, looping the existing 10-inch and 12-inch OD pipelines;

• Janesville Compressor Station Upgrade (Rock County)—A new 2,370 horsepower (hp) reciprocating compressor unit and associated equipment to be installed at an existing compressor station site;

• Goodman Compressor Station (Marinette County)—A new 20,620 hp compressor station comprised of two 10,310 hp units to be built at an existing meter station site; and

• Meter Station Upgrades (Dane, Marathon, and Columbia Counties)—Minor equipment modifications at 5 existing meter stations (McFarland, Sun Prairie, and Stoughton Meter Stations in Dane County; North Wausau Meter Station in Marathon County; and Randolph Meter Station in Columbia County).

The general locations of the project facilities are shown in Appendix 1.³

³ The appendices referenced in this notice are not being printed in the Federal Register. Copies of all appendices, other than Appendix 1 (maps), are available on the Commission's website at the “eLibrary” link or from the Commission's Public Reference Room, 888 First Street, NW., Washington, D.C. 20426, or call (202) 502-8371. For instructions on connecting to eLibrary refer to the last page of this notice. Copies of the appendices were sent to all those receiving this notice in the mail.

Land Requirements for Construction

Construction of the proposed facilities would require about 144.68 acres of land. Following construction, about 58.82 acres would be maintained as new aboveground facility sites. The remaining 85.86 acres of land would be restored and allowed to revert to its former use.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ⁴ will discuss impacts that could occur as a result of the construction and operation of the proposed project under these general headings:

⁴ “We”, “us”, and “our” refer to the environmental staff of the Office of Energy Projects (OEP).

• Geology and soils

• Land use

• Water resources, fisheries, and wet lands

• Cultural resources

• Vegetation and wildlife

• Air quality and noise

• Endangered and threatened species

• Hazardous waste

• Public safety

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by ANR. This preliminary list of issues may be changed based on your comments and our analysis.

Project-related impact on:

• Visual aesthetics from the proposed Goodman Compressor Station;

• Outagamie County Landfill's operations;

• Karst geologic features;

• School and recreation activities at Appleton Senior High School North; and

• Air quality and noise.

Public Participation

You can make a difference by providing us with your specific comments or concerns about the project. By becoming a commentor, your concerns will be addressed in the EA and considered by the Commission. You should focus on the potential environmental effects of the proposal, alternatives to the proposal (including alternative locations and/or routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP05-364-000.

• Mail your comments so that they will be received in Washington, DC on or before July 22, 2006.

Please note that the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (Appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission(s Rules of Practice and Procedure (18 CFR 385.214) (see Appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E5-3411 Filed 6-29-05; 8:45 am]

BILLING CODE 6717-01-P